DEPARTMENT OF THE INTERIOR

National Park Service

[NPS-WASO-NAGPRA-NPS0039563; PPWOCRADN0-PCU00RP14.R50000]

Notice of Inventory Completion: Merced College, Merced, CA

AGENCY: National Park Service, Interior.

ACTION: Notice.

SUMMARY: In accordance with the Native American Graves Protection and Repatriation Act (NAGPRA), Merced College has completed an inventory of human remains and associated funerary objects and has determined that there is a cultural affiliation between the human remains and associated funerary objects and Indian Tribes or Native Hawaiian organizations in this notice.

DATES: Repatriation of the human remains and associated funerary objects in this notice may occur on or after April 16, 2025.

ADDRESSES: Jeff Buechler, Social Sciences—Stop 35, Merced College, 3600 M Street, Merced, CA 95348, telephone (209) 384-6246, email jeffrey.buechler@mccd.edu.

SUPPLEMENTARY INFORMATION: This notice is published as part of the National Park Service's administrative responsibilities under NAGPRA. The determinations in this notice are the sole responsibility of Merced College, and additional information on the determinations in this notice, including the results of consultation, can be found in the inventory or related records. The National Park Service is not responsible for the determinations in this notice.

Abstract of Information Available

Beginning as early as 1972 and continuing through at least 1978 (if not into the 1980's), Professor Charles Ostrander and students of Merced College conducted sporadic surface surveys and excavations at TUO-910, during which a large number of comingled and fragmentary human remains and comingled funerary items were removed from heavily disturbed contexts and brought to Merced College. A minimum of 115 individuals are represented, including at least two adult males, one adult female, nine adults of indeterminate sex, one late teen, and one juvenile, the latter and several others with evidence of burning or cremation. The site is mistakenly referred to as TUO-209 in College records. Of the 39 associated funerary objects listed in the records, 35 are present and accounted for in Merced College's collections, and four are currently missing or unidentifiable. The 39 associated funerary objects are one lot of end-notched stones; one lot of thin steatite ring fragments; one lot of narrow, oblong, tapered, weathered stones; one lot of polished bone awl fragments; one lot of shell beads; one lot of steatite beads; one lot of stone beads; one lot of black metasedimentary, chert, obsidian, and other stone bifacial tools; one lot of obsidian blades; one lot of charcoal; one lot of stone cobbles; one lot of chert and other stone cores; one lot of quartz crystals; one lot of chipped stone eccentric forms on black metasedimentary, chert, and other stone; one lot of faunal bone; one lot of fire-cracked rock; one lot of large obsidian and other stone flakes; one lot of steatite fragments; one lot of stone manos and mano fragments; one half of a broken stone mortar bowl; one lot of grinding stone implement fragments; one lot of quartz and other stone hammerstones; one lot of historic material (metal nails, metal token, brick paver, clay pottery sherds); one lot of black metasedimentary, chert, obsidian, quartz, and other stone lithic debitage; one lot of unmodified shells; one lot of oblong stone objects; one lot of worked steatite slabs; one lot of ochre; one lot of quartz and other stone pebbles; one lot of steatite perforated disks; one lot of perforated natural stones; one lot of chert, obsidian, quartz, and other stone projectile points; one lot of rocks; one lot of sandstone sphere fragments; and one lot of black metasedimentary, chert, quartz, obsidian, and other stone unifacial tools. The four missing or unidentifiable associated funerary object are one large bone awl, one lot of shell beads, one stone burin, and one lot of stone projectile points.

Cultural Affiliation

Based on the information available and the results of consultation, cultural affiliation is clearly identified by the information available about the human remains and associated funerary objects described in this notice.

Determinations

Merced College has determined that:

• The human remains described in this notice represent the physical remains of 115 individuals of Native American ancestry.

• The 39 objects described in this notice are reasonably believed to have been placed intentionally with or near individual human remains at the time of death or later as part of the death rite or ceremony.

• There is a reasonable connection between the human remains and associated funerary objects described in this notice and the Buena Vista Rancheria of Me-wuk Indians of California; Chicken Ranch Rancheria of Me-Wuk Indians of California; and the Tuolumne Band of Me-Wuk Indians of the Tuolumne Rancheria of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 16, 2025. If competing requests for repatriation are received, Merced College must determine the most appropriate requestor prior to repatriation. Requests for joint repatriation of the human remains and associated funerary objects are considered a single request and not competing requests. Merced College is responsible for sending a copy of this notice to the Indian Tribes and Native Hawaiian organizations identified in this notice.

Authority: Native American Graves Protection and Repatriation Act, 25 U.S.C. 3003, and the implementing regulations, 43 CFR 10.10.

Dated: February 19, 2025.
Melanie O'Brien,
Manager, National NAGPRA Program.

[FR Doc. 2025-04180 Filed 3-14-25; 8:45 am]

BILLING CODE 4312-52-P